DEPARTMENT OF AGRICULTURE

Agricultural Marketing Service

7 CFR Part 982

[Docket No. AO-SC-20-J-0011; AMS-SC-19-0082; SC19-984-1]

Walnuts Grown in California; Hearing on Proposed Amendment of Marketing Order No. 984; Correction

AGENCY: Agricultural Marketing Service, USDA.

ACTION: Notice of hearing on proposed rulemaking; correction.

SUMMARY: The Agricultural Marketing Service (AMS), USDA, published a document in the Federal Register of February 11, 2020, announcing a public hearing to receive evidence on proposed amendments to Federal Marketing Order No. 984 (Order) regulating the handling of walnuts grown in California. The California Walnut Board (Board), which locally administers the Order, recommended proposed amendments that would add authority for the Board to provide credit for certain market promotion expenses paid by handlers against their annual assessments due under the Order and establish requirements to effectuate the new authority. In addition, AMS proposed to make changes to the Order as may be necessary to conform to any amendment that may result from the hearing. The date and method of the hearing have changed.

FOR FURTHER INFORMATION CONTACT: Melissa Schmaedick, Marketing Order and Agreement Division, Specialty Crops Program, AMS, USDA, Post Office Box 952, Moab, UT 84532; Telephone: (435) 265-5092, Fax: (435) 259-1502, or Andrew Hatch, Marketing Order and Agreement Division, Specialty Crops Program, AMS, USDA, 1400 Independence Avenue SW, Stop 0237, Washington, DC 20250-0237; Telephone: (202) 720-2491, Fax: (202) 720-8938, or Email: Melissa.Schmaedick@usda.gov or Andrew.Hatch@usda.gov.

Small businesses may request information on this proceeding by contacting Richard Lower, Marketing Order and Agreement Division, Specialty Crops Program, AMS, USDA, 1400 Independence Avenue SW, Stop 0237, Washington, DC 20250-0237; Telephone: (202) 720-2491, Fax: (202) 720-8938, or Email: Richard.Lower@usda.gov.

SUPPLEMENTARY INFORMATION:

Correction

In the Federal Register of February 11, 2020, in FR Doc. 2020-02387, on page 7669, in the first column, correct the “Dates” and “Addresses” captions to read:

DATES: The hearing will be held April 20, 2020, from 8:00 a.m. to 5:00 p.m. Pacific Standard Time (PST) and, if deemed necessary by the presiding administrative law judge, will continue April 21, 2020, from 8:00 a.m. until 5:00 p.m. PST or until any other such time as determined by the judge.

ADDRESSES: USDA will conduct the hearing remotely, without gathering in a central location, using the ZOOM audio-video conferencing system. Individuals will be able to testify before the administrative law judge for the hearing record through their own computer or any other technology that supports the ZOOM application. To participate remotely in the hearing via audio-video technology, participant's computers must have operating camera, microphone and audio functions. The on-line hearing location will be https://www.zoomgov.com/s/1601790781.

For individuals who do not have access to a computer with operating camera, microphone and audio functions, cellular or land-line telephones may be used. To access the on-line hearing by telephone, participants may dial (669) 254-5252 or (646) 828-7666.

* * * * *

Additional Information

AMS requests that individuals who would like to testify (witnesses) provide their name, phone number and email address to Melissa Schmaedick and Andrew Hatch of the Marketing Order and Agreement Division, Specialty Crops Program, AMS, USDA, whose contact information is listed in the FOR FURTHER INFORMATION CONTACT section above, by 5:00 p.m. Eastern Standard Time (EST), April 15, 2020.

Further, AMS requests all witnesses to submit electronic copies of any prepared statements and supporting documents via email to walnut.hearing@usda.gov also by 5:00 p.m. EST, April 15, 2020, so that they can be made public at the time of the hearing. These documents will be published to the AMS website at the following location https://www.ams.usda.gov/rules-regulations/walnuts-grown-california-hearing-proposed-amendment-marketing-order-no984.

While not required, individuals wanting to participate as audience members may pre-register by providing their name, phone number and email address to Melissa Schmaedick and Andrew Hatch of the Marketing Order and Agreement Division, Specialty Crops Program, AMS, USDA, whose contact information is listed in the FOR FURTHER INFORMATION CONTACT section above, by 5:00 p.m. EST April 15, 2020.

All pre-registered individuals will receive an invitation via email prior to the hearing. The invitation will include a link the individuals can click at the start of the hearing on April 20, 2020, and April 21, 2020. Individuals who choose not to pre-register may access the hearing on-line by cutting and pasting https://www.zoomgov.com/s/1601790781 into their web browser.

Interested persons may visit https://www.ams.usda.gov/rules-regulations/walnuts-grown-california-hearing-proposed-amendment-marketing-order-no984 for further information on the use of Zoom technology and applicable guidelines and procedures for this remote hearing.

The hearing will be transcribed by a court reporting service and will be recorded for USDA training purposes.

Bruce Summers,
Administrator, Agricultural Marketing Service.

[FR Doc. 2020-07508 Filed 4-9-20; 8:45 am]

BILLING CODE P